Title 3—

The President

Proclamation 7602 of October 4, 2002

Fire Prevention Week, 2002

By the President of the United States of America

A Proclamation

Every year, fires needlessly take lives and destroy homes, natural habitats, and livelihoods. This year, as we observe Fire Prevention Week, I ask all citizens to take responsible steps to prevent fires at home and outdoors and to ensure that safety and emergency plans are in place and in practice.

Approximately 3,500 Americans die each year in home fires; and 85 percent of all annual fire fatalities occur in residences. To prevent this tragic loss of life, the National Fire Protection Association, in partnership with the Federal Emergency Management Agency, the United States Fire Administration, and America's 26,354 fire departments, is sponsoring the 2002 Fire Prevention Week campaign, “Team Up for Fire Safety.” I encourage all Americans to heed the recommendations of fire safety experts by ensuring that every home is equipped with the appropriate number of properly installed and maintained smoke alarms and that every family has fire safety and escape plans. These measures will help to prevent fires and protect our families, our communities, and our firefighters.

America has faced a devastating wildfire season this year, and much wildlife habitat has been destroyed by fires in our overgrown forests. To reduce the threat of these catastrophic wildfires and to restore the health of America's forests, we must continue to develop improved forest management plans. My Healthy Forests Initiative aims to ensure our environment's health by thinning dangerous overgrowth. Firefighters and forest experts agree that we could strengthen the health of our forests by targeted thinning of dense forests and quickly restoring fire- damaged areas to prevent erosion. Through these improved forest policies, we can protect our citizens, prevent catastrophic fires, preserve healthy forests, and sustain wildlife habitat.

During Fire Prevention Week, our Nation also gives thanks for the invaluable service rendered by our firefighters, who risk their lives to preserve and protect our communities. These courageous public servants have inspired us with their dedication and professionalism. On September 11, 2001, we saw that our brave firefighters are among America's greatest heroes. As we remember the sacrifice of so many firefighters that day, let us draw great strength from their example of selfless service to others. These firefighters embodied the best of the American spirit.

NOW, THEREFORE, I, GEORGE W. BUSH, President of the United States of America, by virtue of the authority vested in me by the Constitution and laws of the United States, do hereby proclaim October 6 through October 12, 2002, as Fire Prevention Week. On Sunday, October 6, 2002, pursuant to Public Law 107-51, flags will be flown at half-staff on all Federal office buildings in honor of the National Fallen Firefighters Memorial Service. I invite the people of the United States to participate in this observance by flying our Nation's flag over their homes at half-staff on this day, to mark this week with appropriate programs and activities, and to renew efforts throughout the year to prevent fires and their tragic consequences.

IN WITNESS WHEREOF, I have hereunto set my hand this fourth day of October, in the year of our Lord two thousand two, and of the Independence of the United States of America the two hundred and twenty-seventh.

B

[FR Doc. 02-25897

Filed 10-8-02; 8:45 am]

Billing code 3195-01-P